DEPARTMENT OF HOMELAND SECURITY

Federal Emergency Management Agency

[Docket ID: FEMA-2015-0009; OMB No. 1660-0083]

Agency Information Collection Activities: Submission for OMB Review; Comment Request; Application for Community Disaster Loan (CDL) Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 29, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION:

Collection of Information

Title: Application for Community Disaster Loan (CDL) Program.

Type of information collection: Extension, without change, of a currently approved information collection.

OMB Number: 1660-0083.

Form Titles and Numbers: FEMA Form 090-0-1, Certification of Eligibility for Community Disaster Loans; FEMA Form 116-0-1, Promissory Note; FEMA Form 085-0-1, Local Government Resolution—Collateral Security; FEMA Form 090-0-2, Application for Community Disaster Loan.

Abstract: The loan package for the CDL Program provides Local and Tribal governments that have suffered substantial loss of tax or other revenues as a result of a major disaster or emergency, the opportunity to obtain financial assistance in order to perform their governmental functions. The loan must be justified on the basis of need and actual expenses.

Affected Public: State, local or Tribal Government.

Estimated Number of Respondents: 50.

Estimated Total Annual Burden Hours: 975 hours.

Estimated Cost: The estimated annual cost to respondents for the hour burden is $61,705.00. There are no annual costs to respondents' operations and maintenance costs for technical services. There are no annual start-up or capital costs. The cost to the Federal Government is $1,010,692.92.

Dated: June 19, 2015.
Janice Waller,
Acting Director, Records Management Division, Mission Support Bureau, Federal Emergency Management Agency, Department of Homeland Security.

[FR Doc. 2015-15810 Filed 6-26-15; 8:45 am]

BILLING CODE 9111-23-P